DEPARTMENT OF TRANSPORTATION

Federal Aviation Administration

14 CFR Part 39

[Docket No. FAA-2013-0223; Directorate Identifier 2012-CE-049-AD]

RIN 2120-AA64

Airworthiness Directives; Pilatus Aircraft Ltd. Airplanes

AGENCY: Federal Aviation Administration (FAA), Department of Transportation (DOT).

ACTION: Notice of proposed rulemaking (NPRM).

SUMMARY: We propose to adopt a new airworthiness directive (AD) for Pilatus Aircraft Ltd. Models PC-6, PC-6-H1, PC-6-H2, PC-6/350, PC-6/350-H1, PC-6/350-H2, PC-6/A, PC-6-A-H1, PC-6/A-H2, PC-6/B-H2, PC-6/B1-H2, PC- 6/B2-H2, PC-6/B2-H4, PC-6/C-H2, and PC-6/C1-H2 airplanes that would supersede an existing AD. This proposed AD results from mandatory continuing airworthiness information (MCAI) originated by an aviation authority of another country to identify and correct an unsafe condition on an aviation product. The MCAI describes the unsafe condition as failure to inspect and maintain stabilizer-trim attachment components and the flap actuator could result in loss of control. We are issuing this proposed AD to require actions to address the unsafe condition on these products.

DATES: We must receive comments on this proposed AD by April 22, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact PILATUS AIRCRAFT LTD., Customer Service Manager, CH-6371 STANS, Switzerland; telephone: +41 (0) 41 619 65 01; fax: +41 (0) 41 619 65 76; Internet: http://www.pilatus-aircraft.com/#32. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2013-0223; Directorate Identifier 2012-CE-049-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On December 28, 2010, we issued AD 2011-01-14, Amendment 39-16571 (76 FR 5647; February 1, 2011). That AD required actions intended to address an unsafe condition on the products listed above.

Since we issued AD 2011-01-14, (76 FR 5647; February 1, 2011), the airworthiness limitations of the airplane maintenance manual has been updated to include the flap actuator, which was not included when the limitations were initially created.

The European Aviation Safety Agency (EASA), which is the Technical Agent for the Member States of the European Community, has issued EASA AD No.: 2012-0268, dated December 19, 2012 (referred to after this as “the MCAI”), to correct an unsafe condition for the specified products. The MCAI states:

The mandatory instructions and airworthiness limitations applicable to the Structure and Components of the PC-6 are specified in the Aircraft Maintenance Manual (AMM) under Chapter 4 or in the Airworthiness Limitations Document (ALS), depending on the aeroplane model.

These documents include the maintenance instructions and/or airworthiness limitations developed by Pilatus Aircraft Ltd. and approved by EASA. Failure to comply with these instructions and limitations could potentially lead to an unsafe condition. To address this potentially unsafe condition EASA issued AD 2010-0176 to require implementation of maintenance instructions and/or airworthiness limitations in accordance with Pilatus PC-6 ALS issue 1, dated 14 May 2010 and Pilatus PC-6 AMM Chapter 4, issue 12, dated 14 May 2010.

Since that AD was issued, Pilatus Aircraft Ltd published Pilatus PC-6 AMM (Number 01975) Chapter 4, issue 16 and PC-6 ALS (Number 02334) issue 3 to introduce a threshold for replacement of previously not listed Flap Actuator.

For the reason described above, this AD retains the requirement of AD 2010-0176, which is superseded, and requires the implementation of more restrictive maintenance requirements and/or airworthiness limitation as specified in issue 16 of Chapter 4 of AMM and issue 3 of ALS. This AD also requires replacement of any Flap Actuator which, on the effective date of this AD, has accumulated or exceeded 7 years since new or since last overhaul.

You may obtain further information by examining the MCAI in the AD docket.

Relevant Service Information

Pilatus Aircraft Ltd. issued Chapter 04-00-00, Pilatus PC-6 B2-H2/B2-H4 Maintenance Manual, document No. 01975, Revision No. 16, dated July 31, 2012; and Pilatus PC-6 Airworthiness Limitations, Document No. 02334, Revision No. 3, dated July 31, 2012. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16571 (76 FR 5647; February 1, 2011), and adding the following new AD:

Pilatus Aircraft Limited: Docket No. FAA-2013-0223; Directorate Identifier 2012-CE-049-AD.

(a) Comments Due Date

We must receive comments by April 22, 2013.

(b) Affected ADs

This AD supersedes AD number 2011-01-14, Amendment 39-16571 (76 FR 5647; February 1, 2011).

(c) Applicability

This AD applies to Pilatus Aircraft Ltd. Models PC-6, PC-6-H1, PC-6-H2, PC-6/350, PC-6/350-H1, PC-6/350-H2, PC-6/A, PC-6-A-H1, PC-6/A-H2, PC-6/B-H2, PC-6/B1-H2, PC-6/B2-H2, PC-6/B2-H4, PC-6/C-H2, and PC-6/C1-H2 airplanes, all manufacturer serial numbers (MSN), and MSN 2001 through 2092, that are certificated in any category.

Note 1 of paragraph (c): For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 5: Time Limits.

(e) Reason

This AD was prompted by inspection requirements of the stabilizer-trim attachment components that now include an additional inspection requirement for the flap actuator. We are issuing this proposed AD to update the maintenance program with new requirements and limitations.

(f) Actions and Compliance

(1) For all affected Models PC-6/B2-H2 and PC-6/B2-H4: Before further flight after the effective date of this AD, incorporate the maintenance requirements as specified in Chapter 04-00-00, Pilatus PC-6 B2-H2/B2-H4 Airplane Maintenance Manual (AMM); and Airworthiness Limitations, Document No. 01975, Revision No. 16, dated July 31, 2012; into your FAA-accepted maintenance program (maintenance manual).

(2) For all affected Models PC-6 other than the Models PC-6/B2-H2 and PC-6/B2-H4: Before further flight after the effective date of this AD, incorporate the maintenance requirements as specified in Pilatus PC-6 Airworthiness Limitations, Document No. 02334, Revision No. 3, dated July 31, 2012, into your FAA-accepted maintenance program.

(3) For all Models PC-6 airplanes: This AD provides a grace period for the initial replacement of the flap actuator (except part numbers 978.73.14.101 and 978.73.14.103) and replacement is required as indicated:

(i) If the actuator has accumulated 3,150 hours or more time-in-service since new or overhaul, but does not have more than 8 years since new or overhaul: Within 350 hours TIS after the effective date of this AD or 6 months after the effective date of this AD, whichever occurs first;

(ii) If the actuator has accumulated 6.5 years or more since new or overhaul, but does not have more than 8 years since new or overhaul: Within 350 hours TIS after the effective date of this AD or 6 months after the effective date of this AD, whichever occurs first;

(iii) If the actuator has accumulated more than 8 years since new or overhaul, but does not have 8.5 years or more since new or overhaul: No later than accumulating 8.5 years hours since new or overhaul; or

(iv) If the actuator has 8.5 years or more since new or overhaul: Before further flight after the effective date of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI EASA AD No.: 2012-0268, dated December 19, 2012; Chapter 04-00-00, Pilatus PC-6 B2-H2/B2-H4 Airplane Maintenance Manual (AMM); and, Pilatus PC-6 Airworthiness Limitations, Document No. 02334, Revision No. 3, dated July 31, 2012; for related information. For service information related to this AD, contact Pilatus Aircraft Ltd., Customer Service Manager, CH-6371 STANS, Switzerland; telephone: +41 (0) 41 619 65 01; fax: +41 (0) 41 619 65 76; Internet: http://www.pilatus-aircraft.com/#32. You may review copies of the referenced service information at the FAA, Small Airplane Directorate, 901 Locust, Kansas City, Missouri 64106. For information on the availability of this material at the FAA, call (816) 329-4148.

Issued in Kansas City, Missouri, on March 1, 2013.
John Colomy,
Acting Manager, Small Airplane Directorate, Aircraft Certification Service.

[FR Doc. 2013-05292 Filed 3-6-13; 8:45 am]

BILLING CODE 4910-13-P